DEPARTMENT OF JUSTICE

Drug Enforcement Administration

Agency Information Collection Activities: Proposed Collection; Comment Request

ACTION: 30-day Notice of Information Collection Under Review: New Collection; Prescription Monitoring Program Questionnaire.

The Department of Justice (DOJ), Drug Enforcement Administration (DEA) has submitted the following information collection request to the Office of Management and Budget (OMB) for review and approval in accordance with the Paperwork Reduction Act of 1995. The proposed information collection is published to obtain comments from the public and affected agencies. This proposed information collection was previously published in the Federal Register volume 67, Number 167, pages 55274-55275 on August 2, 2002 allowing for a 60-day comment period. The purpose of this notice is to allow for an additional 30 days for public comment until December 13, 2002. This process is conducted in accordance with 5 CFR 1320.10. Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-7285.

Written comments and suggestions are requested from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of information collection: New collection.

(2) The title of the form/collection: Prescription Monitoring Program Questionnaire.

(3) The agency form number, if any, and the applicable component of the Department sponsoring the collection:

Form No.: None.

Applicable component of the Department sponsoring the collection: Office of Diversion Control, Drug Enforcement Administration, U.S. Department of Justice.

(4) Affected public who will be asked or required to respond, as well as a brief abstract:

Primary: State agencies.

Other: None.

Abstract: This questionnaire permits the Drug Enforcement Administration to compile and evaluate information regarding the design, implementation and operation of state prescription monitoring programs. Such information allows DEA to assist states in the development of new programs designed to enhance the ability of both DEA and state authorities to prevent, detect, and investigate the diversion and abuse of controlled substances.

(5) An estimate of the total number of respondents and the amount of time estimated for an average respondent to respond/reply: 25 respondents. 1 response per year × 5 hours per response = 125 annual burden hours.

(6) An estimate of the total public burden (in hours) associated with the collection: 125 annual burden hours. 25 respondents × 5 hours per respondent per year.

If additional information is required contact: Mr. Robert B. Briggs, Clearance Officer, United States Department of Justice, Information Management and Security Staff, Justice Management Division, 601 D Street, NW., Washington, DC 20004.

Dated: November 6, 2002.
Robert B. Briggs,
Clearance Officer, U.S. Department of Justice.

[FR Doc. 02-28737 Filed 11-12-02; 8:45 am]

BILLING CODE 4410-09-M